NATIONAL AERONAUTICS AND SPACE ADMINISTRATION

[Notice 13-013]

Information Collection Notice/NASA Great Moonbuggy Race

AGENCY: National Aeronautics and Space Administration (NASA).

ACTION: NASA Information Collection Notice; Correction.

Federal Register Citation of Previous Announcement: 76 FR 23339, Document Number 2013-01648, Notice Number 12-004, dated January 28, 2013.

SUMMARY: The National Aeronautics and Space Administration published a notice in the Federal Register of January 28, 2013, inviting the general public and other Federal agencies to comment on a proposed information collection; the NASA Great Moonbuggy Race, as required by the Paperwork Reduction Act of 1995.

Correction: In Section III Data, the Estimated Total Annual Burden Hours is 118.

FOR FURTHER INFORMATION CONTACT: Ms. Frances Teel, NASA Clearance Officer, National Aeronautics and Space Administration, Washington, DC 20546, (202) 358-2225.

SUPPLEMENTARY INFORMATION: This information collection supports the President's initiative to create opportunities to advance science, technology, engineering, and mathematics (STEM) education. The Great Moonbuggy race is a vehicular engineering experience that targets high school and college students and connects classroom training to tangible activities that enable practical application of STEM disciplines, cultivates innovative thinking, and embraces teamwork. This event is inspired by the original lunar rover that piloted across the Moon's surface in the early 1970's. Participating students will design a vehicle that addresses a series of engineering problems similar to problems faced by the original Moonbuggy. Comments are invited on (1) whether the proposed collection of information is necessary for the proper performance of the functions at NASA, including whether the information collected has practical utility; (2) the accuracy of NASA's estimate of the burden (including hours and cost; (3) ways to enhance the quality, utility, and clarity of the information to be collected; and (4) ways to minimize the burden of the collection of information on respondents; including automated collection techniques or the use of other information technology.

Frances Teel,
PRA Clearance Officer, National Aeronautics and Space Administration.

[FR Doc. 2013-03527 Filed 2-14-13; 8:45 am]

BILLING CODE 7510-13-P